DEPARTMENT OF ENERGY

Environmental Management Site-Specific Advisory Board, Hanford; Meeting

AGENCY: Department of Energy.

ACTION: Notice of open meeting.

SUMMARY: This notice announces a meeting of the Environmental Management Site-Specific Advisory Board (EM SSAB), Hanford. The Federal Advisory Committee Act (Pub. L. 92-463, 86 Stat. 770) requires that public notice of these meeting be announced in the Federal Register.

DATES: Thursday, September 6, 2001, 9:00 a.m.-5:00 p.m.; Friday, September 7, 2001, 8:30 a.m.-3:30 p.m.

ADDRESSES: Radisson Hotel Seattle Airport, 17001 Pacific Highway South, Seattle, WA 98188 (206-244-6000).

FOR FURTHER INFORMATION CONTACT: Gail McClure, Public Involvement Program Manager, Department of Energy Richland Operations Office, P.O. Box 550 (A7-75), Richland, WA, 99352; Phone: (509) 373-5647; Fax: (509) 376-1563.

SUPPLEMENTARY INFORMATION:

Purpose of the Board

The purpose of the Board is to make recommendations to DOE and its regulators in the areas of environmental restoration, waste management, and related activities.

Tentative Agenda

Thursday morning, September 6, 2001

• Semi-Annual Tri-Party Agreement Status Overview with Senior Tri-Party Agreement Managers (DOE-Richland Operations Office, DOE-Office of River Protection, U.S. Environmental Protection Agency, and Washington State Department of Ecology) may be introduced.

• WA State Department of Ecology—Enforcement Perspective.

• Review of Agency Responses to Hanford Advisory Board Advice.

Thursday afternoon, September 6, 2001

• Introduction of Draft Advice on Tri-Party Agreement Community Relations Plan.

• Discussion on re-issuance of draft advice to Environmental Management Assistant Secretary of Energy on Field Office Decision Authority.

Friday morning, September 7, 2001

• Action on Draft Advice on Tri-Party Agreement Community Relations Plan.

• Action on re-issuance of draft advice on Field Office Decision Authority.

• Board Discussion on Major Policy Issues for FY 2002.

Friday afternoon, September 7, 2001

• Updates.

• Inspector General Report on Off-Site Waste Funding Options.

• Hanford Draft Institutional Control Plan.

• Central Plateau—Issue Manager and Agency Update.

• K-Basin Spent Fuel Rebaselining and Progress.

• Overview of DOE-Richland and DOE-Office of River Protection Baseline Activities.

• Groundwater Roadmap Roundtable.

Public Participation

The meeting is open to the public. Written statements may be filed with the Board either before or after the meeting. Individuals who wish to make oral statements pertaining to agenda items should contact Gail McClure's office at the address or telephone number listed above. Requests must be received five days prior to the meeting and reasonable provision will be made to include the presentation in the agenda. The Deputy Designated Federal Officer is empowered to conduct the meeting in a fashion that will facilitate the orderly conduct of business. Each individual wishing to make public comment will be provided equal time to present their comments.

Minutes

The minutes of this meeting will be available for public review and copying at the Freedom of Information Public Reading Room, 1E-190, Forrestal Building, 1000 Independence Avenue, SW, Washington, DC 20585 between 9:00 a.m. and 4:00 p.m., Monday-Friday, except Federal holidays. Minutes will also be available by writing to Gail McClure, Department of Energy Richland Operation Office, PO Box 550, Richland, WA 99352, or by calling her at (509) 373-5647.

Issued at Washington, DC on August 2, 2001.
Rachel M. Samuel,
Deputy Advisory Committee Management Officer.

[FR Doc. 01-19718 Filed 8-6-01; 8:45 am]

BILLING CODE 6450-01-P